DEPARTMENT OF AGRICULTURE

Forest Service

Notice of Public Meeting

AGENCY: Forest Service, USDA.

ACTION: Notice of public meeting.

SUMMARY: The Department of Agriculture, Forest Service will hold a workshop entitled “Cellulose Nanomaterial—A Path Towards Commercialization” on May 20-21, 2014 in collaboration with and co-sponsored by the National Nanotechnology Initiative (NNI). The workshop is intended to bring together executives and experts from the federal government, academia, and private sector to identify critical information gaps that need to be filled and technical barriers that need to be overcome to enable the commercialization of cellulose nanomaterials. Workshop presenters and participants will identify pathways for the commercialization of cellulosic nanomaterials and the workshop will facilitate communication across multiple industry sectors; between users and cellulose nanomaterials producers; and among government, academia and industry to determine common challenges. An important goal of the workshop is to identify the critical information gaps and technical barriers in the commercialization of cellulose nanomaterials from the perspective of nanocellulose user communities. The outcomes of the workshop are expected to be used to guide federal government and private sector investments in nanocellulose research and development. The workshop also supports the announcement last December by USDA Secretary Thomas Vilsack regarding the formation of a public private-partnership to rapidly advance the commercialization of cellulose nanomaterials. The USDA announcement can be found at: http://www.usda.gov/wps/portal/usda/usdahome?contentid=2013%2F12%2F0235.xml.

This workshop also supports the goals of the NNI Sustainable Nanomanufacturing Signature Initiative.

DATES: The Workshop will be held Tuesday, May 20, 2014 from 8:00 a.m. until 5:00 p.m. and on Wednesday, May 21, 2014 from 8:00 a.m. until 5:00 p.m.

ADDRESSES: The workshop will be held at the USDA Conference & Training Center, Patriots Plaza III, 355 E Street SW., Washington, DC 20024.

FOR FURTHER INFORMATION CONTACT: For information regarding this Notice, please contact Cheryl David-Fordyce at National Nanotechnology Coordination Office, by telephone 703-292-2424 or email cdavid@nnco.nano.gov. Additional information about the meeting, including the agenda, is posted at http://www.nano.gov/NCworkshop.

Registration: Registration opens on March 17, 2014 at http://www.nano.gov/NCworkshop. Due to space limitations, pre-registration for the workshop is required. Written notices of participation by email should be sent to cdavid@nnco.nano.gov or mailed to Cheryl David-Fordyce, 4201 Wilson Blvd., Stafford II, Suite 405, Arlington, VA 22230. Please provide your full name, title, affiliation and email or mailing address when registering. Registration is on a first-come, first-served basis until capacity is reached. Written or electronic comments should be submitted by email to cdavid@nnco.nano.gov until close of business April 30, 2014.

Meeting Accomodations: Individuals requiring special accommodation to access this public meeting should contact Cheryl David-Fordyce 703-292-2424 at least ten business days prior to the meeting so that appropriate arrangements can be made.

Dated: March 6, 2014.
Theodore H. Wegner,
Assistant Director.

[FR Doc. 2014-05352 Filed 3-18-14; 8:45 am]

BILLING CODE 3411-15-P